ENVIRONMENTAL PROTECTION AGENCY

[EPA-HQ-OAR-2022-0063; FRL-10229-01-OMS]

Information Collection Request Submitted to OMB for Review and Approval; Comment Request; NSPS for Industrial/Commercial/Institutional Steam Generating Units (Renewal)

AGENCY: Environmental Protection Agency (EPA).

ACTION: Notice.

SUMMARY: The Environmental Protection Agency (EPA) has submitted an information collection request (ICR), NSPS for Industrial/Commercial/Institutional Steam Generating Units (EPA ICR Number 1088.16, OMB Control Number 2060-0072), to the Office of Management and Budget (OMB) for review and approval in accordance with the Paperwork Reduction Act. This is a proposed extension of the ICR, which is currently approved through November 30, 2022. Public comments were previously requested, via the Federal Register on April 8, 2022, during a 60-day comment period. This notice allows for an additional 30 days for public comments. A fuller description of the ICR is given below, including its estimated burden and cost to the public. An agency may neither conduct nor sponsor, and a person is not required to respond to, a collection of information unless it displays a currently-valid OMB control number.

DATES: Additional comments may be submitted on or before October 26, 2022.

ADDRESSES: Submit your comments, referencing Docket ID Number EPA-HQ-OAR-2022-0063, online using https://www.regulations.gov/ (our preferred method), or by email to docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit http://www.epa.gov/dockets.

Abstract: The New Source Performance Standards for Industrial/Commercial/Institutional Steam Generating Units (40 CFR part 60, subpart Db) apply to existing and new industrial/commercial/institutional steam generating units (boilers) that have a heat input capacity from fuels combusted in the unit of greater than 29 megawatts (MW) (100 million British thermal units per hour (MMBtu/hr)). In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of commercial, industrial, or institutional steam generating units.

Respondent's obligation to respond: Mandatory (40 CFR part 60, subpart Db).

Estimated number of respondents: 2,068 (total).

Frequency of response: Quarterly, semiannually.

Total estimated burden: 1,890,000 hours (per year). Burden is defined at 5 CFR 1320.3(b).

Total estimated cost: $265,000,000 (per year), which includes $37,900,000 in annualized capital/startup and/or operation & maintenance costs.

Changes in the Estimates: The increase in burden from the most-recently approved ICR is due to an adjustment. This increase is not due to any program changes. The increase is based on an increase in the number of sources subject to the NSPS due to continued growth in the industry. There is no increase in capital costs, but there is an increase in O&M costs because the number of existing respondents conducting O&M has increased.

Courtney Kerwin,
Director, Regulatory Support Division.

[FR Doc. 2022-20544 Filed 9-23-22; 8:45 am]

BILLING CODE 6560-50-P